DEPARTMENT OF COMMERCE

National Oceanic and Atmospheric Administration

Coastal Zone Management: Federal Consistency Appeal by Stora Enso North America (Formerly Known as Consolidated Papers, Inc. and Niagara Paper of Wisconsin) From an Objection by Wisconsin Department of Administration

AGENCY: National Oceanic and Atmospheric Administration, Commerce.

ACTION: Dismissal of appeal.

On May 5, 1997, Stora Enso North America (formerly known as Consolidated Papers, Inc. and Niagara Paper of Wisconsin) (Appellant), appealed the Wisconsin Department of Administration's (State) objection to the federal hydropower license for the Little Quinnesec Falls project. Action on this appeal stayed pending the resolution of judicial proceedings before the Court of Appeals for the 7th Circuit and negotiations between the Parties.

At the Appellant's request, the Assistant General Counsel for Ocean Services granted several stays of the consistency appeal, which were not opposed by the State. The State and the Appellant have reached an agreement on Appellant's proposed project and the State has determined that the activity is now consistent with the State's Coastal Management Program. By letter to Appellant, the State withdrew its objection to the project. Accordingly, the Appellant has requested that the appeal be withdrawn.

NOAA granted this request and the appeal has been dismissed. This is a final agency action for purposes of judicial review.

FOR FURTHER INFORMATION CONTACT: Karl Gleaves, Assistant General Counsel for Ocean Services, National Oceanic and Atmospheric Administration (NOAA), U.S. Department of Commerce, 1305 East-West Highway, Room 6111, Silver Spring, MD 20910, (301) 713-2967.

(Federal Domestic Assistance Catalog No. 11.419 Coastal Zone Management Program Assistance)
Dated: February 12, 2002.
Leila J. Afzal,
Acting General Counsel.

[FR Doc. 02-6798 Filed 3-20-02; 8:45 am]

BILLING CODE 3510-08-M